NUCLEAR REGULATORY COMMISSION

[Docket No. 50-255; NRC-2014-0216]

Entergy Nuclear Operations, Inc.; Palisades Nuclear Plant

AGENCY: Nuclear Regulatory Commission.

ACTION: 10 CFR 2.206 request; receipt.

SUMMARY: The U.S. Nuclear Regulatory Commission (NRC) is giving notice that by petition dated March 5, 2014, as supplemented by email dated May 21, 2014, Michael Mulligan (the petitioner) has requested that the NRC take enforcement action against Entergy Nuclear Operations, Inc., due to recent plant events and equipment failures at Palisades Nuclear Plant (PNP). The petitioner's requests are included in the SUPPLEMENTARY INFORMATION section of this document.

ADDRESSES: Please refer to Docket ID NRC-2014-0216 when contacting the NRC about the availability of information regarding this document. You may obtain publicly-available information related to this document using any of the following methods:

• Federal Rulemaking Web site: Go to http://www.regulations.gov and search for Docket ID NRC-2014-0216. Address questions about NRC dockets to Carol Gallagher; telephone: 301-287-3422; email: Carol.Gallagher@nrc.gov.

• NRC's Agencywide Documents Access and Management System (ADAMS): You may obtain publicly available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The ADAMS accession number for each document referenced in this document (if that document is available in ADAMS) is provided the first time that a document is referenced.

• NRC's PDR: You may examine and purchase copies of public documents at the NRC's PDR, Room O1-F21, One White Flint North, 11555 Rockville Pike, Rockville, Maryland 20852.

SUPPLEMENTARY INFORMATION: Notice is hereby given that by petition dated March 5, 2014 (ADAMS Accession No. ML14071A006), as supplemented by email dated May 21, 2014 (ADAMS Accession No. ML14142A101), and the petitioner's addresses to the Petition Review Board dated April 8 and September 3, 2014 (ADAMS Accession Nos. ML14143A212 and ML14259A135, respectively), the petitioner, has asked the NRC to take enforcement action against Entergy Nuclear Operations, Inc., due to recent plant events and equipment failures at PNP. The petitioner was particularly concerned with primary coolant pump (PCP) impeller pieces breaking off and lodging in the reactor vessel.

The petitioner requests the following actions:

• Require PNP to open every PCP for inspection and clear up all flaws.

• Require PNP to replace the PCPs with a design for their intended duty.

• An Office of Inspector General (OIG) inspection on why there are different analysis criteria for similar PCP events between the NRC regions.

• A ten million dollar fine for these events.

• Intensify NRC monitoring of PNP, and return them to yellow or red status.

As the basis for the request, the petitioner stated, in part, the following:

• The petitioner cited other recent plant events and equipment failures, such as leakage from the safety injection refueling water tank, and flaws in the control rod drive mechanisms.

• The petitioner asserted the licensee and the NRC staff used non-conservative engineering judgment during the evaluation of the lodged PCP impeller piece and during the operability evaluation of the existing PCP impellers.

• The petitioner asserts that the NRC staff was not being aggressive in resolving plant equipment issues, not resolving PCP equipment issues uniformly across the NRC regions, and accommodating the nuclear industry.

The request is being treated pursuant to § 2.206 of Title 10 of the Code of Federal Regulations (10 CFR), and has been referred to the Director of the Office of Nuclear Reactor Regulation (NRR). In accordance with 10 CFR 2.206, the NRC will take appropriate action on this petition within a reasonable period of time. The petitioner met with the NRR's Petition Review Board on April 8 and September 3, 2014, to discuss the petition. The Petition Review Board considered the results of that discussion in its determination of the petitioner's request for immediate action and in the establishment of the schedule for the review of the petition.

Dated at Rockville, Maryland, this 25th day of September 2014.
For The Nuclear Regulatory Commission.
Daniel H. Dorman,
Acting Director, Office of Nuclear Reactor Regulation.

[FR Doc. 2014-23802 Filed 10-3-14; 8:45 am]

BILLING CODE 7590-01-P